DEPARTMENT OF COMMERCE

International Trade Administration

[A-583-848]

Certain Stilbenic Optical Brightening Agents From Taiwan: Final Results of Antidumping Duty Administrative Review; 2022

AGENCY: Enforcement and Compliance, International Trade Administration, Department of Commerce.

SUMMARY: The U.S. Department of Commerce (Commerce) determines that certain stilbenic optical brightening agents (OBAs) from Taiwan were sold in the United States at less than normal value during the period of review (POR) May 1, 2022, through November 26, 2022.

DATES: Applicable May 28, 2024.

FOR FURTHER INFORMATION CONTACT: Joshua Weiner, AD/CVD Operations, Office I, Enforcement and Compliance, International Trade Administration, U.S. Department of Commerce, 1401 Constitution Avenue NW, Washington, DC 20230; telephone: (202) 482-3902.

SUPPLEMENTARY INFORMATION:

Background

On February 2, 2024, Commerce published in the Federal Register the preliminary results of the 2022 administrative review ¹ of the antidumping duty order on OBAs from Taiwan.² We invited interested parties to comment on the Preliminary Results.³ No interested party submitted comments. Accordingly, the final results of review remain unchanged from the Preliminary Results and no decision memorandum accompanies this notice. Commerce conducted this review in accordance with section 751(a) of the Tariff Act of 1930, as amended (the Act).

¹ See Stilbenic Optical Brightening Agents from Taiwan: Preliminary Results of Antidumping Duty Administrative Review; 2022, 89 FR 7361 (February 2, 2024) (Preliminary Results), and accompanying Preliminary Decision Memorandum (PDM).

² See Certain Stilbenic Optical Brightening Agents from Taiwan: Amended Final Determination of Sales at Less Than Fair Value and Antidumping Duty Order, 77 FR 27419 (May 10, 2012) (Order).

³ See Preliminary Results, 89 FR at 7361.

Scope of the Order

The products covered by the Order are OBAs. For a full description of the scope of the Order, see the Preliminary Results.⁴

⁴ See Preliminary Results PDM.

Final Results of Review

We determine that the following weighted-average dumping margin exists for the POR:

Producer/exporter | Weighted- average dumping margin (percent)
Teh Fong Min International Co., Ltd | 1.04

Disclosure

Because Commerce received no comments on the Preliminary Results, we have not modified our analysis and no decision memorandum accompanies this Federal Register notice. We are adopting the Preliminary Results as the final results of this review. Consequently, there are no new calculations to disclose in accordance with 19 CFR 351.224(b) for these final results.

Assessment Rates

Pursuant to section 751(a)(2)(C) of the Act and 19 CFR 351.212(b), Commerce has determined, and U.S. Customs and Border Protection (CBP) shall assess, antidumping duties on all appropriate entries of subject merchandise in accordance with the final results of this review. We intend to instruct CBP to apply the importer-specific ad valorem assessment rates we calculated for the Preliminary Results on the basis of the ratio of the total amount of dumping calculated for each importer's examined sales and the total entered value of those same sales in accordance with 19 CFR 351.212(b)(1).⁵ If the importer-specific assessment rate is zero or de minimis, then Commerce will instruct CBP to liquidate such entries without regard to antidumping duties.

⁵ See Antidumping Proceedings: Calculation of the Weighted-Average Dumping Margin and Assessment Rate in Certain Antidumping Duty Proceedings; Final Modification, 77 FR 8101 (February 14, 2012).

For entries of subject merchandise during the POR produced by Teh Fong Min International Co., Ltd., for which it did not know that its merchandise was destined for the United States, we will instruct CBP to liquidate unreviewed entries at the all-others rate (i.e., 6.19 percent) ⁶ if there is no rate for the intermediate company(ies) involved in the transaction.

⁶ See Order, 77 FR at 27420.

Commerce intends to issue assessment instructions to CBP no earlier than 35 days after the date of publication of these final results in the Federal Register. If a timely summons is filed at the U.S. Court of International Trade, the assessment instructions will direct CBP not to liquidate relevant entries until the time for parties to file a request for a statutory injunction has expired (i.e., within 90 days of publication).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Order

This notice also serves as a reminder to parties subject to an administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

Commerce is issuing and publishing the final results of this review in accordance with sections 751(a)(1) and 777(i)(1) of the Act, and 351.221(b)(5).

Dated: May 20, 2024.
Ryan Majerus,
Deputy Assistant Secretary for Policy and Negotiations, performing the non-exclusive functions and duties of the Assistant Secretary for Enforcement and Compliance.

[FR Doc. 2024-11599 Filed 5-24-24; 8:45 am]

BILLING CODE 3510-DS-P